DEPARTMENT OF AGRICULTURE

Submission for OMB Review; Comment Request

October 17, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by November 20, 2017 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Special Nutrition Programs Quick Response Surveys.

OMB Control Number: 0584-0613.

Summary of Collection: FNS is submitting a revision to this generic clearance to include more detailed information concerning the sample frame data collection. This generic clearance, which allows the Food and Nutrition Service (FNS) to quickly collect and analyze specific information from State and local administrators of the Special Nutrition Programs (SNP), includes two data collections: (1) An annual sample frame data collection and (2) quick response surveys. FNS conducts lengthy, large, and complex studies on broad topics about the SNPs, which often take several years to complete. The Quick Response Surveys provides a mechanism for succinct, quick-turnaround studies to complement the larger SNP studies. Collecting sample frame data on an annual basis provides FNS the flexibility to conduct these shorter, quick-turnaround studies. This generic clearance enables FNS to administer the SNPs more effectively by providing a mechanism for rapidly collecting current information on specific time-sensitive features or issues.

Need and Use of the Information: FNS will use the data collected for the sample frames to identify the universe of entities that can be sampled for the quick-response surveys. These surveys will collect information from key administrators of the SNPs at the State, local, and site level in response to various program and research questions resulting from the larger and more complex SNP studies. The data collected from these quick turnaround studies will be used to answer policy and implementation questions posed by the larger studies and will enable FNS to monitor program funding, comply with statutes and regulations, and adopt program changes.

Description of Respondents: Not-for profit institutions and State, Local, or Tribal Government.

Number of Respondents: 107,740 over the three-year approval.

Frequency of Responses: Reporting: On Occasion; Annually.

Total Burden Hours: 34,523 over the three-year approval.

Ruth Brown,
Departmental Information Collection Clearance Officer.

[FR Doc. 2017-22767 Filed 10-19-17; 8:45 am]

BILLING CODE 3410-30-P